FEDERAL DEPOSIT INSURANCE CORPORATION

Agency Information Collection Activities: Submission For OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC gives notice that it plans to submit to the Office of Management and Budget (OMB) a request for OMB review and approval of the information collection system described below. The FDIC may not conduct or sponsor, and a respondent is not required to respond to, an information collection unless it displays a currently valid control number.

DATES: Comments must be submitted on or before May 22, 2002.

ADDRESSES: You are invited to submit a comment to the OMB Reviewer or the FDIC. Please direct your comments as follows:

OMB: Alexander T. Hunt, Office of Management and Budget, Office of Information and Regulatory Affairs, Washington, DC 20503.

FDIC: Thomas Nixon, Senior Program Attorney, Attention: Deposit Broker Processing, 550 17th Street, NW., Washington, DC 20429, (202) 898-8766. You may hand-deliver comments to the guard station at the rear of the 550 17th Street Building (located on F Street), on business days between 7 a.m. and 5 p.m. [FAX number (202) 898-3838. Internet address: comments@fdic.gov].

FOR FURTHER INFORMATION CONTACT: Thomas Nixon at the address listed above.

SUPPLEMENTARY INFORMATION: Title: Deposit Broker Processing.

Estimate of Annual Burden:

Estimated number of respondents: 70.

Frequency of response: Occasional.

Estimated number of responses: 70.

Estimated average time per response: 2 hours.

Estimated total annual burden: 140 hours.

Further information: Information about this submission, including copies of the proposed collection of information, may be obtained by calling or writing the agency contact listed above.

Federal Deposit Insurance Corporation.
Robert E. Feldman,
Executive Secretary.

[FR Doc. 02-9764 Filed 4-19-02; 8:45 am]

BILLING CODE 6714-01-P